DEPARTMENT OF DEFENSE

Department of the Army

Notice of Intent To Grant Exclusive Patent License to Akoura Biometrics, Inc.

AGENCY: Department of the Army, DoD.

ACTION: Notice of intent.

SUMMARY: In compliance with 37 CFR 404 et seq., the Department of the Army hereby gives notice of its intent to grant to Akoura Biometrics Incorporated, a corporation having its principle place of business at 9990 Waterford Trail Chagrin Falls, OH 44023, an exclusive or partially exclusive license relative to ARL patents U.S. Patent 6,557,103 B1 entitled, “Spread Spectrum Steganography”; April 29, 2003, Boncelet, Jr., et al. and U.S. Patent 6,831,990 B2 entitled, “System and Method for Image Tamper Detection via Thumbnail Hiding”; December 14, 2004; Marvel et al.

DATES: Anyone wishing to object to the grant of this license must file written objections along with supporting evidence, if any, not later than 15 days from the date of this notice.

ADDRESSES: Send written objections to Michael D. Rausa, U.S. Army Research Laboratory, Office of Research and Technology Applications, ATTN: AMSRD-ARL-DP-T/Bldg. 454, Aberdeen Proving Ground, MD 21005-5425.

FOR FURTHER INFORMATION CONTACT: Michael D. Rausa, telephone (410) 278-5028.

SUPPLEMENTARY INFORMATION: None.

Brenda S. Bowen,
Army Federal Register Liaison Officer.

[FR Doc. 05-24188 Filed 12-16-05; 8:45 am]

BILLING CODE 3710-08-M